DEPARTMENT OF HEALTH AND HUMAN SERVICES

Food and Drug Administration

21 CFR Part 333

[Docket No. 96P-0460]

Topical Antifungal Drug Products for Over-the-Counter Human Use; Amendment of Final Monograph; Correction

AGENCY: Food and Drug Administration, HHS.

ACTION: Final rule; correction.

SUMMARY: The Food and Drug Administration (FDA) is correcting a final rule that appeared in the Federal Register of February 8, 2002 (67 FR 5942). The document amended the final monograph for over-the-counter (OTC) topical antifungal drug products to add the ingredient clotrimazole as generally recognized as safe and effective for the treatment of athlete's foot, jock itch, and ringworm. The document was inadvertently published with an incorrect docket number. This document corrects that error.

FOR FURTHER INFORMATION CONTACT: Doris B. Tucker, Office of Policy (HF-27), Food and Drug Administration, 5600 Fishers Lane, Rockville, MD 20857, 301-827-7010.

In FR Doc. 02-3079, appearing on page 5942 in the Federal Register of Friday, February 8, 2002, the following correction is made:

1. On page 5942, in the first column, “[Docket No. 99N-4063]” is corrected to read “[Docket No. 96P-0460]”.

Dated: March 7, 2002.
Margaret M. Dotzel,
Associate Commissioner for Policy.

[FR Doc. 02-6180 Filed 3-14-02; 8:45 am]

BILLING CODE 4160-01-S